DEPARTMENT OF THE INTERIOR

National Park Service

Intent to Prepare An Environmental Impact Statement for the Alagnak Wild River Management Plan, Alaska

AGENCY: National Park Service, Interior.

ACTION: Notice of Intent to prepare an environmental impact statement for the Alagnak Wild River Management Plan, Alaska.

SUMMARY: Under the provisions of the 1969 National Environmental Policy Act, the National Park Service is preparing an environmental impact statement (EIS) for the Alagnak Wild River Management Plan. The Alaska National Interest Lands Conservation Act of December 2, 1980, designated the Alagnak River (including the Nonvianuk River) from the outlets at Kukaklek and Nonvianuk Lakes to the west boundary of township 13 south, range 43 west, Seward Meridian, as a wild river under the provisions of the 1968 National Wild and Scenic Rivers Act. The Wild and Scenic River Act directs the administering agency (National Park Service) to manage components of the system in such a manner as to protect and enhance the values for which the river was designated, while providing for public recreation and resource uses that do not adversely impact or degrade those values.

A braided navigable river, the Alagnak drains from lakes of unusually high elevation for the area, resulting in a corridor that runs from alpine habitats, through tundra and boreal forest systems, to the coast. A diversity and abundance of wildlife along with a rich cultural heritage is found within the river corridor, thus making the area important to Alaska Natives, as well as to subsistence and recreational users.

The purpose of a new Alagnak Wild River Management Plan is to provide comprehensive management direction over the next 15-20 years to protect and enhance the values for which the Alagnak Wild River was designated. This new management plan will replace the 1983 Alagnak Wild River Management Plan and amend the 1986 General Management Plan for Katmai National Park and Preserve (1986 GMP). A new management plan is needed because both the 1983 River Management Plan and the 1986 GMP are based on outdated assumptions about the levels and types of use on the river and related management and development approaches. Furthermore, neither the 1983 River Management Plan nor the 1986 GMP adequately describes strategies for resource protection and management, long-term monitoring, and management along a river corridor with a complex pattern of land ownership.

During the ensuing planning process, a reasonable range of alternatives will be developed and analyzed in the river management plan and EIS, including no-action and an agency preferred alternative. A preliminary list of planning issues that the alternatives need to address has been identified and includes:

• How can the important natural and cultural resources best be protected and enhanced, while providing for continued use of the river by present and future generations?

• What level and type of use is appropriate and consistent with the purpose for which the river was designated under the Wild and Scenic Rivers Act?

• What facilities are necessary to meet the goals of the river management plan and appropriate to the wild river classification?

In the agency-preferred alternative and other action alternatives, some of the above issues will be addressed by the development and allocation of specific management zones along the Alagnak Wild River. The use of zones will enable the National Park Service to provide a range of quality user experiences and resource conditions consistent with the mandates of the Wild and Scenic Rivers Act.

Public scoping for the Alagnak Wild River Management Plan and EIS begins with this Notice of Intent. The National Park Service requests input from federal and state agencies, Native groups, local governments, private organizations, recreational and subsistence users, local landowners, members of the community, and the general public. Further information on this planning process will be made available to the public in April 2001 through the distribution of a newsletter, the development of a Web page, and public open houses and meetings. Specific dates, times, and locations of scoping sessions will be announced in area newspapers, via radio announcements, and on community bulletin boards. Preliminary alternatives will be developed based on the issues identified and comments gathered. The public will be provided with an opportunity to comment on the preliminary alternatives before they are incorporated into the draft EIS.

The draft EIS is anticipated to be available for public review in spring 2002. The anticipated release of the final EIS/Alagnak Wild River Management Plan is winter 2002/03.

Those interested in submitting additional planning issues or providing input to this initial phase of developing the Alagnak Wild River Management Plan and EIS are invited to do so by sending such comments to the point of contact identified below.

FOR FURTHER INFORMATION CONTACT: Jane Bacchieri, Alagnak Wild River Project Coordinator, Katmai National Park & Preserve, PO Box 7, King Salmon, AK 99613. (907) 246-2148. (907) 246-4286 Fax. jane_bacchieri@nps.gov

SUPPLEMENTARY INFORMATION: The Alagnak Wild River Project Coordinator should receive comments no later than 90 days from the publication of this Notice of Intent.

The practice of the National Park Service is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations and businesses, and from individuals identifying themselves as representatives or officials of organizations or businesses, available for public inspection in their entirety.

Ralph Tingey,
Acting Regional Director.

[FR Doc. 01-9758 Filed 4-19-01; 8:45 am]

BILLING CODE 4310-70-P